DEPARTMENT OF EDUCATION

Disability and Rehabilitation Research Projects (DRRP) Program

AGENCY: National Institute on Disability and Rehabilitation Research (NIDRR), Office of Special Education and Rehabilitative Services, Department of Education.

ACTION: Notice of final priorities (NFP).

SUMMARY: The Assistant Secretary announces final priorities for one Persons Aging with Hearing and Vision Loss project and one Evaluation of the Changing Universe of Disability and Systems Change Activities project under the Disability and Rehabilitation Research Projects (DRRP) Program for the National Institute on Disability and Rehabilitation Research (NIDRR). The Assistant Secretary may use one or more of these priorities for competitions in FY 2002 and in later years. We take this action to focus research attention on identified national needs. We intend these priorities to improve rehabilitation services and outcomes for individuals with disabilities.

EFFECTIVE DATE: These priorities are effective August 15, 2002.

FOR FURTHER INFORMATION CONTACT: Donna Nangle, U.S. Department of Education, 400 Maryland Avenue, SW., room 3412, Switzer Building, Washington, DC 20202-2645. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION: The purpose of the DRRP Program is to plan and conduct research, demonstration projects, training, and related activities that help to maximize the full inclusion and integration of individuals with disabilities into society and to improve the effectiveness of services authorized under the Rehabilitation Act of 1973, as amended (the Act).

These priorities reflect issues discussed in the New Freedom Initiative (NFI) and NIDRR's Long-Range Plan (the Plan). The NFI can be accessed on the Internet at: http://www.whitehouse.gov/news/freedominitiative/freedominiative.html.

The Plan can be accessed on the Internet at: http://www.ed.gov/offices/OSERS/NIDRR/Products.

We published a notice of proposed priorities (NPP) for the Persons Aging with Hearing and Vision Loss project and for the Evaluation of the Changing Universe of Disability and Systems Change Activities project in the Federal Register on April 26, 2002 (67 FR 20870). This NFP contains two changes from the NPP. Specifically, for the Persons Aging with Hearing and Vision Loss project, we have clarified that the terms “deaf” and “blind” refer to moderate to severe hearing and visual impairments and we have added the term “primary caregivers” to the list of examples of the types of stakeholders from whom the DRRP should seek advice. We fully explain these changes in the Analysis of Comments and Changes elsewhere in this notice.

Except for minor revisions, there are no other changes between the NPP and this NFP.

The backgrounds for each of the priorities were published in the NPP.

Analysis of Comments and Changes

In response to our invitation in the NPP, several parties submitted comments on the proposed priorities (eight parties for the Persons Aging with Hearing and Vision Loss project and three parties for the Evaluation of the Changing Universe of Disability and Systems Change Activities). An analysis of the comments and of any changes in the priorities since publication of the NPP is published as an appendix at the end of this notice. We discuss comments under the priority to which they pertain.

Generally, we do not address technical and other minor changes and suggested changes the law does not authorize us to make under the applicable statutory authority.

Note: This notice does not solicit applications. In any year in which we choose to use these priorities, we invite applications through a notice in the Federal Register. When inviting applications we designate the priority as absolute, competitive preference, or invitational.

Priorities

Priority 1—Persons Aging With Hearing and Vision Loss

This priority supports one DRRP on Persons Aging with Hearing and Vision Loss. The purpose of this priority is to explore ways to improve outcomes for persons who are blind or who are deaf and who are now experiencing a secondary onset of hearing loss or vision impairment resulting from aging. The terms “deaf” and “blind” as used herein refer to the moderate to severe range of hearing and visual impairments. The DRRP will conduct research, development, training, and dissemination activities and evaluate model approaches for improving employment and community integration options, including more viable communication systems, for such individuals who are 55 years of age, or older. In carrying out this purpose the DRRP must:

(1) Investigate the prevalence of age-related onset of deafness among older American blind individuals and age-related onset of blindness among older American deaf individuals and the impact on the employment and community integration options, including more viable communication systems for each population;

(2) Identify and evaluate technology and service delivery options, such as transportation, housing, and community integration activities for individuals with early onset deafness or blindness and late onset hearing or vision loss and their effectiveness with persons experiencing secondary sensory loss resulting from aging;

(3) Identify and evaluate access to use of technologies, including assistive devices and telecommunication or other existing communication systems, such as tactile interpreter support, needed to assist persons with early onset deafness or blindness and late onset hearing or vision loss and their effectiveness with persons experiencing secondary sensory loss resulting from aging; and

(4) Using available dissemination mechanisms, with appropriate assistive technical modification, disseminate findings, and develop strategies to educate both consumers and providers, especially vocational rehabilitation workers, in use of these techniques.

In addition, the DRRP must:

• Coordinate the efforts of this DRRP with other NIDRR, Office of Special Education Programs (OSEP), and Rehabilitation Services Administration (RSA) projects that address related activities such as Blindness, Deafness, Deaf-Blind, Aging, Accessible Housing, Accessible Transportation, Telecommunication, Independent Living, and Interpreter Training programs;

• Solicit direct input from stakeholders (e.g., persons who are deaf, blind, and deaf-blind; service providers; primary caregivers; and employers) as part of the ongoing planning, development, and implementation of the DRRP's research activities;

• Demonstrate efforts to secure supplementary funding that will permit the DRRP more latitude in exploring additional related studies, in addition to the Federal monies available from this NIDRR grant; and

• Identify and investigate a study population that includes a balanced sample of subjects representative of national demographics.

Priority 2—Evaluation of the Changing Universe of Disability and Systems Change Activities

This priority supports a DRRP on the Evaluation of the Changing Universe of Disability and Systems Change Activities. The purpose of the priority is to evaluate the implications over time of systems change activities for populations within the changing universe of disability.

The DRRP must:

(1) Identify and evaluate existing or proposed data systems that can be used to monitor systems change activities at the State or Federal level or both, including policy changes related to the NFI, the Workforce Investment Act of 1998, and the 1999 Olmstead decision (Olmstead v. L.C., 527 U.S. 581);

(2) Identify, evaluate, and project the impact of systems change activities and new policies for people with newly emergent disabilities or changing manifestations of disability or both, including those who are unserved and underserved;

(3) Develop proposals for new systems or data variables, or changes, as necessary, to existing data systems that will facilitate use of such data to eliminate gaps in the availability of mechanisms to monitor the impact of systems change activities on people with newly emergent disabilities or changing manifestations of disability or both, including those who are unserved and underserved;

(4) Disseminate findings and recommendations to modify monitoring data systems or to institute new monitoring approaches; and

(5) Conduct research to identify and evaluate the implications of policy changes or other systems change activities on public and private rehabilitation programs and services for persons with newly emergent disabilities or changing manifestations of disability or both, including those who are unserved and underserved.

In carrying out these purposes the applicant must:

• Involve consumers or their families, as appropriate, in all stages of the research and demonstration endeavor;

• Demonstrate culturally appropriate and sensitive methods of data collection, measurements, and dissemination addressing needs of individuals with disabilities from diverse backgrounds;

• By the end of the fourth year, convene a national conference to disseminate and discuss information about the effect of systems change activities on persons with newly emergent disabilities or changing manifestations of disability or both including those who are unserved and underserved and proposals to address gaps in such activities;

• Serve as a resource to researchers, consumers and consumer groups, planners, and policymakers for conceptual and statistical information that addresses the changing universe of disability, including systems change issues.

Intergovernmental Review

This program is not subject to Executive Order 12372 and the regulations in 34 CFR part 79.

Applicable Program Regulations: 34 CFR part 350.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number 84.133A, Disability and Rehabilitation Research Project)

Program Authority: 29 U.S.C. 762(g) and 764(b).

Dated: July 11, 2002.
Robert H. Pasternack,
Assistant Secretary for Special Education and, Rehabilitative Services.

Appendix

Analysis of Comments and Changes

Priority 1—Persons Aging With Hearing and Vision Loss

Comment: Three commenters expressed strong support for the priority, and gave examples of how their own current activities reflect sensitivity to the needs of the target populations.

Discussion: NIDRR appreciates the broad support that these comments provide.

Change: None.

Comment: One commenter, in addition to offering support for the priority, also offered the service of their Unit Director as a resource person to whomever the project is awarded.

Discussion: While NIDRR appreciates the offer of support, it will be up to each applicant to determine with whom they will negotiate involvement in the project.

Change: None.

Comment: One commenter expressed concern that the differential impact of hearing loss on persons with different types of visual impairments, such as central or peripheral loss, be noted in the research.

Discussion: NIDRR has given applicants an opportunity to define the scope of the population study in item One of the priority. It is the applicant's responsibility to establish the scope of their definition. The peer review process will evaluate merits of the proposal.

Changes: None.

Comment: One commenter recommended several research activities for inclusion in any research project on the subject populations, stating that these areas are important and are supported in the literature cited.

Discussion: The applicants are expected to be familiar with the need for new research as well as with relevant past studies. Applicants are responsible for determining which citations of specific research should be incorporated in the application submitted and the peer review process will evaluate the merits of the proposal.

Change: None.

Comment: One commenter suggested that the priority's scope might be enhanced by adding the term “primary caregivers” to the second bullet item.

Discussion: NIDRR agrees this adds clarity to the intent.

Change: The term has been added.

Comment: Two commenters expressed concern about the scope of the definition for the terms “deaf” and “blind” and whether, in each case, NIDRR intends for these terms to be all inclusive. One commenter offered the current Veteran Administration (VA) definition as an example.

Discussion: NIDRR uses the terms “deaf” and “blind” to be inclusive of moderate to severe hearing and visual impairments. NIDRR suggests that the applicants cite whatever references they believe best fits their research intent.

Change: At the end of the second sentence, after the word aging, further clarification is added.

Comment: One commenter suggested that such a study will be incomplete without including similar information from a broader subject base, specifically (a) from persons with both sensory impairments acquired at an early age; (b) persons who acquire these impairments late in life; and (c) from persons with both sensory impairments who are institutionalized.

Discussion: NIDRR believes that it is the applicant's responsibility to determine and defend the inclusion or exclusion of any population segments within the broader populations. The priority encourages the applicant to seek additional research funding from other sources if the initial efforts support broader endeavors.

Changes: None.

Priority 2—Evaluation of the Changing Universe of Disability and Systems Change Activities

Comments: One commenter recommended that the scope of work be expanded to address other policy developments including welfare reform, recent U.S. Supreme Court decisions about the definition of disability, and the Ticket to Work and Work Incentives Improvement Act.

Discussion: An applicant could propose a study pertaining to these; however, NIDRR has no basis to determine that all applicants should be required to focus on these issues. The peer review process will evaluate merits of the proposal.

Change: None.

Comments: Two commenters noted the extensive scope of data sources available to monitor systems change. These sources reflect variations in types of services provided, agency needs to measure outcomes, target populations and their descriptors, units of analysis, specification of legal definitions of disability under the ADA, and scientific rigor of the measures.

Discussion: Applicants may choose from a variety of methodologies to identify and evaluate appropriate data systems within the scope of the priority.

Change: None.

Comments: Two commenters indicated that a substantial interagency effort is needed to develop a coherent framework and outcome-based methodologies for evaluation of the impact across time of policy changes for all persons with disabilities.

Discussion: As the commenters indicated, there are many substantive issues to be addressed beyond those specified in this priority. However, past research regarding shifts in the universe of individuals with disabilities has demonstrated difficulties in using available data sources to characterize a diverse and dynamic population. Such data are needed to develop appropriate interventions to address the needs of people with newly emergent or changing manifestations of disability.

Change: None.

[FR Doc. 02-17883 Filed 7-15-02; 8:45 am]

BILLING CODE 4000-01-P